DEPARTMENT OF COMMERCE

National Oceanic and Atmospheric Administration

Marine Mammals and Endangered Species

AGENCY: National Marine Fisheries Service (NMFS), National Oceanic and Atmospheric Administration (NOAA), Commerce.

ACTION: Notice; issuance of permits and permit amendments or modifications.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Erin Markin (File No. 17304-03); Courtney Smith (File No. 21143), Lisa Lierheimer (File No. 21486), Sara Young (File Nos. 20466, 21006, 21018, 21158), and Shasta McClenahan (File Nos. 16609-01, 17115-05 and 20951) at (301) 427-8401.

SUPPLEMENTARY INFORMATION: Notices were published in the Federal Register on the dates listed below that requests for a permit or permit amendment had been submitted by the below-named applicants. To locate the Federal Register notice that announced our receipt of the application and a complete description of the research, go to www.regulations.gov and search on the permit number provided in the table below.

File No. | RIN | Applicant | Previous Federal Register Notice | Permit or amendment issuance date
16609-01 | 0648-XF213 | Zoological Society of San Diego (Douglas Myers, Responsible Party), P.O. Box 120551, San Diego, CA 92112 | 82 FR 37426; August 10, 2017 | September 20, 2017.
17115-05 | 0648-XC100 | James Lloyd-Smith, University of California, Los Angeles, 610 Charles E. Young Dr. South, Box 723905, Los Angeles, California 90095 | 77 FR 41171; July 12, 2012 | September 12, 2017.
17304-03 | 0648-XC667 | Kristen Hart, Ph.D., U.S. Geological Survey, 3205 College Ave., Davie, Florida 33314 | 82 FR 12806; March 7, 2017 | September 5, 2017.
20466 | 0648-XF272 | Alaska Department of Fish and Game (ADF&G), Division of Wildlife Conservation, Juneau, AK | 82 FR 16995; April 7, 2017 | September 20, 2017.
20951 | 0648-XF367 | Ann Zoidis, Ph.D., Cetos Research Organization, 11 Des Isle Avenue, Bar Harbor, ME 04609 | 82 FR 22517; May 16, 2017 | September 5, 2017.
21006 | 0648-XF530 | Linnea Pearson, California Polytechnic State University, 1 Grand Ave., San Luis Obispo, CA 93407 | 82 FR 32344; July 13, 2017 | September 15, 2017.
21018 | 0648-XF536 | Brent Stewart, Ph.D., Hubbs-SeaWorld Research Institute, 2595 Ingraham Street, San Diego, CA 92109 | 82 FR 32789; July 18, 2017 | September 27, 2017.
21143 | 0648-XF500 | Jeremy Kiszka, Ph.D., Florida International University, 3000 NE 151st Street, Marine Science Building, Room 250D, North Miami, Florida, 33181 | 82 FR 31950; July 11, 2017 | September 1, 2017.
21158 | 0648-XF592 | Robert Garrott, Ph.D., Montana State University, 310 Lewis Hall, Bozeman, MT 59717 | 82 FR 37574; August 11, 2017 | September 25, 2017.
21486 | 0648-XF620 | British Broadcasting Corporation (BBC) Worldwide Americas, Inc., on behalf of BBC Natural History Unit, 28 Whiteladies Rd., Bristol, UK, BS8 2LR | 82 FR 40144; September 24, 2017 | September 27, 2017.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: October 18, 2017.
Julia Harrison,
Chief, Permits and Conservation Division, Office of Protected Resources, National Marine Fisheries Service.

[FR Doc. 2017-22899 Filed 10-20-17; 8:45 am]

BILLING CODE 3510-22-P